TENNESSEE VALLEY AUTHORITY

Agency Information Collection Activities: Proposed Collection; Comment Request

AGENCY: Tennessee Valley Authority.

ACTION: 60-Day notice of submission of information collection approval and request for comments.

SUMMARY: The proposed information collection described below will be submitted to the Office of Management and Budget (OMB) for review, as required by the Paperwork Reduction Act of 1995 (44 U.S.C. chapter 35, as amended). The Tennessee Valley Authority is soliciting public comments on this proposed collection as provided by 5 CFR 1320.8(d)(1).

ADDRESSES: Requests for information, including copies of the information collection proposed and supporting documentation, should be directed to the Agency Clearance Officer: Mark Winter, Tennessee Valley Authority, 1101 Market Street (MP-3C), Chattanooga, Tennessee 37402-2801; (423) 751-6004.

DATES: Comments should be sent to the Agency Clearance Officer no later than July 6, 2012.

SUPPLEMENTARY INFORMATION:

Type of Request: Regular submission; reinstatement of a previously approved collection.

Title of Information Collection: Salary Surveys for Engineering Association (EA), Office and Professional Employees International Union (OPEIU), and United Government Security Officers of America (UGSOA) bargaining unit employees.

Frequency of Use: Once every three years for each bargaining unit.

Type of Affected Public: State or local governments, Federal agencies, non-profit institutions, businesses, or other for-profit.

Small Businesses or Organizations Affected: No.

Federal Budget Functional Category Code: 999.

Estimated Number of Annual Responses: 61.

Estimated Total Annual Burden Hours: 165.5.

Estimated Average Burden Hours per Response: 2.75.

Need For and Use of Information: TVA conducts salary surveys once every three years for each bargaining unit to be used as a basis for labor negotiations in determining prevailing rates of pay for represented salary policy employees. TVA surveys firms, and Federal, State and local governments whose employees perform work similar to that of TVA's salary policy employees.

Michael T. Tallent,
Director, Enterprise Information Security & Policy.

[FR Doc. 2012-10855 Filed 5-4-12; 8:45 am]

BILLING CODE 8120-08-P